DEPARTMENT OF THE INTERIOR

Bureau of Land Management

[LLWY-957000-14-L13100000-PP0000]

Filing of Plats of Survey, Wyoming

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys, supplemental and remonumentations were executed at the request of the Bureau of Land Management, the Bureau of Indian Affairs and the U. S. Forest Service and are necessary for the management of resources. The lands surveyed are:

The plat and field notes representing the dependent resurvey of portions of the subdivisional lines, the survey of the subdivision of certain sections, and the survey of portions of the Fortification Creek Wilderness Study Area boundary, Township 52 North, Range 76 West, Sixth Principal Meridian, Wyoming, Group No. 866, was accepted January 24, 2014.

The supplemental plat showing the subdivision of Lot 3, Sec. 19, into new Lots 5 and 6, Sec. 19, is based on a survey executed under state authority in May, 2013, by David A. Fehringer, Wyoming Professional Engineer and Land Surveyor No. 10052, CFedS No. 1369. A plat of this survey, titled “HOMESITE ALLOTMENT SURVEY T3021-E4 INEZ RAJO” was recorded in the Fremont County Clerk's Office, on December 19, 2013, Document No. 2013-1368411, Plat Cabinet 8, Page 95, Township 2 North, Range 5 East, Wind River Meridian, Wyoming, Group No. 902, was accepted January 24, 2014.

The field notes representing the remonumentation of certain mile posts of the Wyoming-Colorado State Boundary, through Range 84 West and the 1/4 sec. cor. of secs. 16 and 17, Township 12 North, Range 84 West, Sixth Principal Meridian, Wyoming, Group No. 624, was accepted February 20, 2014.

The plat and field notes representing the dependent resurvey of a portion of the subdivisional lines, and the survey of the subdivision of section 32, Township 21 North, Range 88 West, Sixth Principal Meridian, Wyoming, Group No. 856, was accepted February 20, 2014.

The plat and field notes representing the dependent resurvey of portions of the Fifth Standard Parallel North, through Range 86 West, the east and west boundaries and the subdivisional lines, and the survey of the subdivision of section 24, Township 21 North, Range 86 West, Sixth Principal Meridian, Wyoming, Group No. 857, was accepted February 20, 2014.

The plat and field notes representing the dependent resurvey of portions of the north boundary, a portion of the subdivisional lines, the survey of the subdivision of sections 4 and 5, and the survey of portions of the Fortification Creek Wilderness Study Area boundary, Township 51 North, Range 76 West, Sixth Principal Meridian, Wyoming, Group No. 871, was accepted February 20, 2014.

The plat and field notes representing the dependent resurvey of a portion of the Ninth Auxiliary Meridian West, through Township 52 North, between Ranges 76 and 77 West, a portion of Tract Nos. 46 and 81, portions of the subdivisional lines, the survey of the subdivision of sec. 12, and the survey of a portion of the Fortification Creek Wilderness Study Area boundary, Township 52 North, Range 77 West, Sixth Principal Meridian, Wyoming, Group No. 872, was accepted March 19, 2014.

The plat and field notes representing the dependent resurvey of portions of the Fourth Standard Parallel North, through Range 72 West, and the subdivisional lines, Township 16 North, Range 72 West, Sixth Principal Meridian, Wyoming, Group No. 874, was accepted March 19, 2014.

The plat and field notes representing the dependent resurvey of portions of the west boundary and the subdivisional lines, and the survey of the subdivision of sections 17 and 19, Township 16 North, Range 95 West, Sixth Principal Meridian, Wyoming, Group No. 876, was accepted March 19, 2014.

The plat and field notes representing the dependent resurvey of a portion of the north boundary and the subdivisional lines, and the survey of the subdivision of sections 11 and 17, Township 23 North, Range 94 West, Sixth Principal Meridian, Wyoming, Group No. 867, was accepted May 15, 2014.

The plat and field notes representing the dependent resurvey of a portion of the east boundary and a portion of the subdivisional lines, and the survey of the subdivision of section 12, and the metes-and-bounds survey of Lot 1, section 12, Township 20 North, Range 71 West, Sixth Principal Meridian, Wyoming, Group No. 887, was accepted May 15, 2014.

The plat and field notes representing the dependent resurvey of a portion of the subdivisional lines, and the survey of the subdivision of certain sections, Township 27 North, Range 83 West, Sixth Principal Meridian, Wyoming, Group No. 888, was accepted May 15, 2014.

The plat and field notes representing the corrective dependent resurvey of a portion of the north boundary, Township 43 North, Range 93 West, Sixth Principal Meridian, Wyoming, Group No. 898, was accepted May 15, 2014.

Copies of the preceding described plats and field notes are available to the public at a cost of $1.10 per page.

Dated: May 28, 2014.
John P. Lee,
Chief Cadastral Surveyor, Division of Support Services.

[FR Doc. 2014-12898 Filed 6-3-14; 8:45 am]

BILLING CODE 4310-22-P